DEPARTMENT OF COMMERCE

National Oceanic and Atmospheric Administration

RIN 0648-XT70

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene public meetings.

DATES: The meetings will be held February 1 - 4, 2010.

ADDRESSES: The meetings will be held at the Battle House, 26 N. Royal Street, Mobile, AL 36602.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Wednesday, February 3, 2010

1 p.m. - The Council meeting will begin with a review of the agenda and approval of the minutes.

1:15 p.m. - 1:45 p.m. - The Council will receive a presentation on Catch Shares Task Force.

1:45 p.m. - 2:15 p.m. - They will receive a report of the Gulf of Mexico Alliance activities.

2:15 p.m. - 4:15 p.m. - They will receive public testimony on exempted fishing permits (EFPs), if any; final Regulatory Amendment for Reef Fish Total Allowable Catch; and the Council will hold an open public comment period regarding any fishery issue of concern. People wishing to speak before the Council should complete a public comment card prior to the comment period.

4:15 p.m. - 5:15 p.m. - The Council will review and discuss reports from the Sustainable Fisheries/Ecosystem Committee.

Thursday, February 4, 2010

8:30 a.m. - 12:45 p.m. - The Council will review and discuss reports from the committee meetings as follows: Reef Fish Management; Budget; Administrative Policy; Outreach and Education; Spiny Lobster/Stone Crab Management; Red Drum; Habitat Protection; Coastal Migratory Pelagics (Mackerel) Management; Shrimp Management; Advisory Panel Selection Committee; Scientific and Statistical Committee Selection Committee; and SEDAR Selection Committee.

12:45 p.m. - 1:15 p.m. - Other Business items will follow.

The Council will conclude its meeting at approximately 1:15 p.m.

Committees

Monday, February 1, 2010

8:30 a.m. - 9 a.m. - CLOSED SESSION - The Full Council will receive a litigation briefing.

9 a.m. - 9:20 a.m. - CLOSED SESSION (Full Council) - The SEDAR Selection Committee will appoint members to the SEDAR meetings for Spiny Lobster, Yellowedge Grouper and Tilefish and Greater Amberjack.

9:20 a.m. - 9:40 a.m. - CLOSED SESSION (Full Council) - The Scientific and Statistical Committee will appoint members to the Special Mackerel Scientific and Statistical Committee.

9:40 a.m. - 10 a.m. - CLOSED SESSION (Full Council) - The Advisory Panel Selection Committee will appoint members to the Mackerel Limited Access Privilege Program Advisory Panel.

10 a.m. - 12 p.m. - The Sustainable Fisheries/Ecosystem Committee will discuss the Options Paper for the Generic Annual Catch Limit/Accountability Measures Amendment and review the proposed National Standard 2 Guidelines.

1:30 p.m. - 2 p.m. - The Budget Committee will review the 2010 funding.

2 p.m. - 4 p.m. - The Administrative Policy Committee will discuss modifications to Statement of Organization Practice and Procedures and Handbook Development.

4 p.m. - 4:45 p.m. - The Outreach and Education Committee will receive a report of the Outreach and Education Advisory Panel meeting.

4:45 p.m. - 5:45 p.m. - The Spiny Lobster/Stone Crab Committee will discuss the Options Paper for Spiny Lobster Amendment 10 and approve the Spiny Lobster SEDAR Terms of Reference.

-Recess-

Tuesday, February 2, 2010

8:30 a.m. - 4 p.m. - The Reef Fish Management Committee will receive a presentation on the Red Snapper update assessment; a report from the Standing and Special Reef Fish Scientific and Statistical Committee; a report from the Red Snapper Advisory Panel; a Draft Final Regulatory Amendment for Red Snapper Total Allowable Catch; an Options Paper for Amendment 32 Gag/Red Grouper scoping meeting summaries; a report of the Limited Access Privilege Program Advisory Panel meeting; a presentation on Northeast Gulf of Mexico Reserves Program: Changes in Reef Fish Populations; and discuss approval of the schedules for SEDAR 22 (Yellowedge Grouper and Tilefish) and Greater Amberjack updates.

4 p.m. - 4:30 p.m. - The Red Drum Committee will discuss the Red Drum Fishery in the Exclusive Economic Zone.

4:30 p.m. - 5 p.m. - The Habitat Protection Committee will give a report of the Mississippi/Louisiana and the Texas Habitat Advisory Panel meetings.

-Recess-

Immediately Following Committee Recess - There will be an informal open public question and answer session.

Wednesday, February 3, 2010

8:30 a.m. - 9:30 a.m. - The Shrimp Management Committee will discuss the Texas Closure for 2010 from recommendations of the Shrimp Advisory Panel; report from the Standing and Special Shrimp Scientific and Statistical Committee Meetings and a report of Shrimp Effort in 2009.

9:30 a.m. - 11:30 a.m. - The Coastal Migratory Pelagics (Mackerel) Management Committee will discuss the Coastal Migratory Pelagics Scoping Meeting summaries and Options Paper for the Coastal Migratory Pelagics Amendment 18. The committee will also consider a control rule for Gulf group King and Spanish Mackerel.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Tina O'Hern at the Council (see ADDRESSES) at least 5 working days prior to the meeting.

Dated: January 8, 2010.
William D. Chappell,
Acting Director, Office of Sustainable Fisheries, National Marine Fisheries Service.

[FR Doc. 2010-468 Filed 1-12-10; 8:45 am]

BILLING CODE 3510-22-S